DEPARTMENT OF AGRICULTURE

7 CFR Parts 1b, 372, 520, 650, 799, 1970, and 3407

36 CFR Part 220

[USDA-2025-0008]

RIN 0503-AA86

National Environmental Policy Act; Correction

AGENCY: Department of Agriculture (USDA).

ACTION: Interim final rule; correction.

SUMMARY: This document corrects errors in the interim final rule that appeared in the July 3, 2025, Federal Register, titled “National Environmental Policy Act.”

DATES: The correction is effective July 21, 2025.

FOR FURTHER INFORMATION CONTACT: Scott Vandegrift, Chief Environmental Review and Permitting Officer, Office of the Secretary, 202-720-5166, SM.OSEC.NRE.NEPA@usda.gov. Individuals who use telecommunications devices for the hearing-impaired may call 711 to reach the Telecommunications Relay Service, 24 hours a day, every day of the year, including holidays.

SUPPLEMENTARY INFORMATION: In FR Doc. 2025-12326, appearing on page 29632 in the Federal Register of Thursday, July 3, 2025, the following correction is made:

1. On page 29632, in the first column, in the DATES caption, “July 30, 2025” is corrected to read “August 4, 2025”.

Tera Graelyn,
Environmental Review Specialist, Office of the Secretary.

[FR Doc. 2025-13664 Filed 7-18-25; 8:45 am]

BILLING CODE 3410-90-P